Title 3—

The President

Proclamation 7992 of March 29, 2006

Cancer Control Month, 2006

By the President of the United States of America

A Proclamation

During National Cancer Control Month, we continue the fight against cancer and work to reduce the risk of this deadly disease among our citizens.

Cancer survival rates are increasing, with approximately 10 million survivors in the United States. New understanding of diseases, better diagnostic tools, and innovative treatments help provide hope and healing to those who have been diagnosed with cancer. Across our country, cancer patients are living longer and fuller lives.

Despite these advances, cancer is still the second leading cause of death in our country, and some cancers, such as breast, prostate, lung, leukemia, and melanoma, continue to be too prevalent. By increasing public awareness and encouraging people to take appropriate steps to protect themselves, we can help prevent certain types of cancer. Individuals can reduce the risk of developing the disease by avoiding tobacco and excessive alcohol and by making healthy lifestyle choices. These include eating well, exercising regularly, and avoiding significant weight gain. I also encourage all Americans to get regular preventive screenings and speak with a health care provider about additional ways to reduce the risk of developing cancer.

My Administration is dedicated to furthering our progress in the fight against cancer. We lead the world in cutting-edge medical research, and I have requested $5.9 billion in my fiscal year 2007 Budget for cancer-related activities within the Department of Health and Human Services. America will continue to aggressively fight cancer, encourage innovative research, and spread hope to those affected.

As we observe Cancer Control Month, I commend the strength and courage of cancer survivors, whose perseverance is an inspiration to all Americans. Our Nation is grateful for the generosity and skill of our medical professionals. These healers, along with the loving family members and friends of cancer patients, reflect the compassionate spirit of our people and help build a healthier future for our citizens. Cancer can be prevented, treated, and defeated, and we will continue to strive to reach the day when the battle to beat cancer has been won.

In 1938, the Congress of the United States passed a joint resolution (52 Stat. 148; 36 U.S.C. 103) as amended, requesting the President to issue an annual proclamation declaring April as “Cancer Control Month.”

NOW, THEREFORE, I, GEORGE W. BUSH, President of the United States of America, do hereby proclaim April 2006 as Cancer Control Month. I encourage citizens, government agencies, private businesses, nonprofit organizations, and other interested groups to join in activities that will increase awareness of how to prevent and control cancer.

IN WITNESS WHEREOF, I have hereunto set my hand this twenty-ninth day of March, in the year of our Lord two thousand six, and of the Independence of the United States of America the two hundred and thirtieth.

B

[FR Doc. 06-3234

Filed 3-31-06; 8:45 am]

Billing code 3195-01-P